DEPARTMENT OF DEFENSE

Department of the Army

Availability for Non-Exclusive, Exclusive, or Partially Exclusive Licensing of U.S. Patent Application Concerning Compositions for Treatment of Hemorrhaging With Activated Factor VIIa in Combination With Fibrinogen and Methods of Using Same

AGENCY: Department of the Army, DOD.

ACTION: Notice.

SUMMARY: In accordance with 37 CFR 404.6 and 404.7, announcement is made of the availability for licensing of U.S. Patent Application No. 09/756,907 entitled “Compositions for Treatment of Hemorrhaging with Activated Factor VIIa in Combination with Fibrinogen and Methods of Using Same,” filed January 10, 2001. Foreign rights (PCT/US01/00725) are also available. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The combination of recombinant factor VIIa and fibrinogen is effective in treatment for bleeding where direct pressure, tourniquets, indirect pressure, surgical ligation, bandaging, and transfusion of blood or plasma products are typically used. The combination of factor VIIa and fibrinogen is administered intravenously, either sequentially or simultaneously. The compositions may be safely circulated in the blood vessels to sites of injury. This is effective for single or multiple external or internal wounds.

Luz D. Ortiz,
Army Federal Liaison Officer.

[FR Doc. 02-23852 Filed 9-19-02; 8:45 am]

BILLING CODE 3710-08-M